DEPARTMENT OF HEALTH AND HUMAN SERVICES

Food and Drug Administration

[Docket No. 2005N-0010]

High Chemical Co. et al.; Proposal to Withdraw Approval of 13 New Drug Applications; Opportunity for a Hearing; Withdrawal

AGENCY: Food and Drug Administration, HHS.

ACTION: Notice; withdrawal.

SUMMARY: The Food and Drug Administration (FDA) is withdrawing a notice that published in the Federal Register on January 28, 2005 (70 FR 4134). This notice is being reissued elsewhere in this issue of the Federal Register

DATES: This notice is withdrawn on April 28, 2005.

FOR FURTHER INFORMATION CONTACT: Darlease Hyman, Regulations Policy Management Staff (HF-26), Food and Drug Administration, 5600 Fishers Lane, Rockville, MD 20857, 301-827-3480.

SUPPLEMENTARY INFORMATION: In the Federal Register of January 28, 2005 (70 FR 4134), FDA published a notice announcing an opportunity for a hearing on the agency's proposal to withdraw approval of 13 new drug applications from multiple sponsors. This notice published with an inadvertent error. Therefore, the agency is withdrawing the notice. Elsewhere in this issue of the Federal Register, FDA is reissuing the corrected notice for the convenience of the reader and to give sponsors the fully allotted time to respond.

Dated: April 5, 2005.
Jeffrey Shuren,
Assistant Commissioner for Policy.

[FR Doc. 05-8470 Filed 4-27-05; 8:45 am]

BILLING CODE 4160-01-S